DELAWARE RIVER BASIN COMMISSION

Notice of Commission Meeting and Public Hearing

Notice is hereby given that the Delaware River Basin Commission will hold an informal conference followed by a public hearing on Tuesday, July 13, 2004. The hearing will be part of the Commission's regular business meeting. Both the conference session and business meeting are open to the public and will be held at the Delaware River Basin Commission in West Trenton, New Jersey.

The conference among the commissioners and staff will begin at 9:30 a.m. Topics of discussion will include: An update on the Water Resources Plan for the Delaware River Basin (“Basin Plan”) and the Watershed Summit scheduled for September 13-15; a proposed resolution for the minutes to finalize and produce copies of the Basin Plan for the Watershed Summit; a summary and discussion of feedback from commissioners and the Water Quality Advisory Committee on the Lower Delaware Water Quality Monitoring Report and on a staff recommendation that the Lower Delaware be designated a Special Protection Water; a discussion regarding the role of project review in connection with an upgrade of an undocketed point source discharge to Special Protection Waters; a discussion regarding preliminary feedback and alternatives to a draft rule to require waste minimization plans for point and non-point dischargers; report and recommendations of the Data Quality Subcommittee of the Toxics Advisory Committee; and an update on letters to be sent to dischargers to require additional monitoring in accordance with DRBC Resolution No. 2003-27.

The subjects of the public hearing to be held during the 1:30 p.m. business meeting include the dockets listed below:

1. TXU Pedricktown Cogeneration Co., L.P. D-92-37 2. An application for the renewal of a ground water withdrawal project to continue withdrawal of 24.55 million gallons per 30 days (mg/30 days) to supply the applicant's cogeneration facility from existing Wells Nos. PW-1, PW-2 and PW-3 in the Potomac-Raritan-Magothy Formation in the Oldmans Creek Watershed. The project is located in Oldmans Township, Salem County, New Jersey.

2. Pennsylvania American Water Company D-99-30 CP 2. An application for approval of a ground water withdrawal project to supply up to 5.83 mg/30 days of water to the applicant's Glen Alsace public water supply distribution system from replacement Well GL-2A in the Brunswick Formation, and to retain the existing withdrawal from all wells at 50 mg/30 days. Proposed replacement Well No. GL-2A will replace former Well No. GL-2 and is planned to be used as a regular source to the Glen Alsace distribution system. The project also includes two existing interconnections from the Reading Area Water Authority (45 mg/30 days) and the Mount Penn Water Authority (6 mg/30 days). The project is located in the Antietam Creek Watershed in Exeter Township, Berks County, Pennsylvania.

3. Evesham Municipal Utilities Authority D-2000-29 CP. An application to modify the discharge of the applicant's Elmwood sewage treatment plant (STP) to allow for rerouting of up to 0.3 million gallons per day (mgd) of treated effluent for irrigation of the Evesham Township Indian Spring Golf Course, located approximately one-half mile southwest of the STP off Marlton Pike and Elmwood Road in Evesham Township, Burlington County, New Jersey. The project withdrawal will replace the 0.2 mgd of water currently utilized from an on-site well in the New Jersey Critical Area of the PRM aquifer. The STP will continue to discharge an average monthly flow of 1.67 mgd to Southwest Branch Rancocas Creek during periods of peak usage.

4. Town of Bovina D-2002-18 CP. An application to construct a subsurface septic treatment system to process up to 0.025 mgd from the Hamlet of Bovina Center in the Town of Bovina, Delaware County, New York, which is adjacent to the Little Delaware River upstream from the Cannonsville Reservoir in the West Branch Delaware River Watershed. The hamlet is currently served by individual septic systems, many of which are failing. Following detention and treatment in large septic tanks, wastewater will be distributed to an absorption field for final treatment and disposal; therefore, no discharge to surface water is proposed.

5. Village of Fleischmanns D-2002-33 CP. An application to construct a 0.146 mgd Sewage Treatment Plant (STP) to replace on-lot septic systems and to provide tertiary level treatment to the predominantly residential area of the Village of Fleischmanns in the Town of Middletown, Delaware County, New York. The plant will be constructed off Main Street between Grocholl and Town Roads, within the village, which it will exclusively serve. Following chemically enhanced sequencing batch reactor processing, STP effluent will be filtered, disinfected, and discharged to Bush Kill upstream from Pepacton Reservoir in the drainage area of the Delaware River Basin Commission Special Protection Waters.

6. Borough of East Greenville D-2004-3 CP. An application for approval of a ground water withdrawal project to supply up to 10.368 mg/30 days of water to the applicant's public water distribution system from existing Well No. 1 in the Brunswick Formation and up to 350,000 gallons per day from an intake on Perkiomen Creek, and to limit the withdrawal from all sources to 10.5 mg/30 days. The project well is located in the Perkiomen-Macoby Creek Watershed in Upper Hanover Township, Montgomery County in the Southeastern Pennsylvania Ground Water Protected Area.

7. Delaware Valley Fish Company D-2004-8 1. An application for a ground water withdrawal project to increase withdrawal from 2.8 mg/30 days to 5.7 mg/30 days of water to supply the applicant's fish holding tanks from existing Well No. DV-1 in the Stockton Formation. The project is located in the Stony Creek Watershed in Norristown Borough, Montgomery County in the Southeastern Pennsylvania Ground Water Protected Area.

8. Vineland Kosher Poultry Company, Inc. D-2004-9. An application for approval of a ground water withdrawal project to supply up to 7.2 mg/30 days of water to the applicant's poultry processing facility from new Well No. 4 in the Kirkwood-Cohansey Formation, and to retain the existing withdrawal from all wells of 7.2 mg/30 days. The project well is located in the Maurice River watershed in the City of Vineland, Cumberland County, New Jersey.

9. Riverton Borough D-2004-14 CP. An application to revise Docket D-89-92 CP to reflect the recent construction of a sequencing batch reactor system needed to replace the trickling filter process at the Riverton Sewage Treatment Plant, which is located at the intersection of Third Street and Martha's Lane in Riverton Borough, Burlington County, New Jersey. The project modification continues to provide secondary treatment and effluent equalization, plus ultraviolet light disinfection prior to submerged discharge to Pompeston Creek at its confluence with the Delaware River in Water Quality Zone 2. The wastewater treatment capacity has remained at 0.22 mgd and the plant will continue to serve only Riverton Borough.

10. Tidewater Utilities, Inc. D-2004-24 CP 1. An application for approval of a ground water withdrawal project to supply up to 18.5055 mg/30 days of water to the applicant's public supply distribution system from Wells Nos. C01, C02, RG01, RG02, GG02 and GG03 in the Cheswold Formation, and to limit the existing withdrawal from all wells to 18.5055 mg/30 days. The project is located in the Saint Jones River Watershed in the Towns of Camden and Wyoming and the City of Dover, all in Kent County, Delaware.

The Commission's 1:30 p.m. business meeting also may include resolutions for the minutes to finalize and produce copies of the Basin Plan; initiate notice and comment rulemaking processes to amend the Water Quality Regulations, Water Code and Comprehensive Plan by (1) authorizing the Commission to require waste minimization plans for certain pollutants and classes of dischargers and (2) to designate the section of the main stem Delaware River known as the “Lower Delaware” as a Special Protection Water. These actions will depend upon the outcome of discussion during the morning conference session. In addition, the meeting will include: adoption of the Minutes of the June 2, 2004 business meeting; announcements; a report on Basin hydrologic conditions; a report by the executive director; and a report by the Commission's general counsel.

Draft dockets scheduled for public hearing on July 13, 2004 are posted on the Commission's web site, http://www.drbc.net, where they can be accessed through the Notice of Commission Meeting and Public Hearing. Additional documents relating to the dockets and other items may be examined at the Commission's offices. Please contact William Muszynski at 609-883-9500 ext. 221 with any docket-related questions.

Individuals in need of an accommodation as provided for in the Americans with Disabilities Act who wish to attend the informational meeting, conference session or hearings should contact the Commission secretary directly at 609-883-9500 ext. 203 or through the Telecommunications Relay Services (TRS) at 711, to discuss how the Commission may accommodate your needs.

Dated: June 22, 2004.
Pamela M. Bush,
Commission Secretary.

[FR Doc. 04-14554 Filed 6-25-04; 8:45 am]

BILLING CODE 6360-01-U